DEPARTMENT OF TRANSPORTATION

Federal Aviation Administration

14 CFR Part 39

[Docket No. FAA-2010-0891; Directorate Identifier 2009-SW-055-AD; Amendment 39-16585, AD 2011-03-02]

RIN 2120-AA64

Airworthiness Directives; EUROCOPTER FRANCE Model SA330F, SA330G, and SA330J Helicopters

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

While adjusting the position of the pedal unit on a SA 330 helicopter, the copilot set the position beyond the end limit (“tall pilot” position). This resulted in the separation of the pedal adjustment system and the pedals rocking forward.

After investigation, it was determined that the Loctite bond on the “tall pilot” stop nut was damaged, most likely due to aging of the adhesive. The nut came loose and could no longer perform its stop function. The threaded rod of the adjustment system separated from the system.

The separation of the adjustment system, if not corrected, could result in the loss of control of the pedal units, causing the helicopter to begin rotating.

We are issuing this AD to require actions to correct the unsafe condition on these products.

DATES: This AD becomes effective April 14, 2011.

On April 14, 2011, the Director of the Federal Register approved the incorporation by reference of certain publications listed in this AD.

FOR FURTHER INFORMATION CONTACT: Gary B. Roach, Aerospace Engineer, FAA, Rotorcraft Directorate, 2601 Meacham Blvd., Fort Worth, Texas 76137; telephone: (817) 222-5130; fax: (817) 222-5961.

SUPPLEMENTARY INFORMATION:

Discussion

We issued a notice of proposed rulemaking (NPRM) to amend 14 CFR part 39 to include an AD that would apply to the specified products. That NPRM was published in the Federal Register on September 13, 2010 (75 FR 55492). That NPRM proposed to correct an unsafe condition for the specified products. The MCAI states:

While adjusting the position of the pedal unit on a SA 330 helicopter, the copilot set the position beyond the end limit (“tall pilot” position). This resulted in the separation of the pedal adjustment system and the pedals rocking forward.

After investigation, it was determined that the Loctite bond on the “tall pilot” stop nut was damaged, most likely due to aging of the adhesive. The nut came loose and could no longer perform its stop function. The threaded rod of the adjustment system separated from the system.

The separation of the adjustment system, if not corrected, could result in the loss of control of the pedal units, causing the helicopter to begin rotating.

For the reasons described above, this Emergency AD requires a one-time functional test and modification (MOD 330A779820.00) of the pedal unit adjustment system.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 6 products of U.S. registry. We also estimate that it will take about 3 work-hours per product to comply with the basic requirements of this AD. The average labor rate is $85 per work-hour. Required parts will cost about $100 per product.

Based on these figures, we estimate the cost of this AD to the U.S. operators to be $2,130 or $355 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-03-02 EUROCOPTER FRANCE: Amendment 39-16585; Docket No. FAA-2010-0891; Directorate Identifier 2009-SW-055-AD.

Effective Date

(a) This airworthiness directive (AD) becomes effective April 14, 2011.

Affected ADs

(b) None.

Applicability

(c) This AD applies to SA330F, SA330G, and SA330J helicopters, all serial numbers, certificated in any category, equipped with pedal position adjustment system modification (MOD 07.10.304).

Subject

(d) Air Transport Association of America (ATA) Code 67: Rotors Flight Control.

Reason

(e) The mandatory continuing airworthiness information (MCAI) states:

While adjusting the position of the pedal unit on a SA 330 helicopter, the copilot set the position beyond the end limit (“tall pilot” position). This resulted in the separation of the pedal adjustment system and the pedals rocking forward.

After investigation, it was determined that the Loctite bond on the “tall pilot” stop nut was damaged, most likely due to aging of the adhesive. The nut came loose and could no longer perform its stop function. The threaded rod of the adjustment system separated from the system.

The separation of the adjustment system, if not corrected, could result in the loss of control of the pedal units, causing the helicopter to begin rotating.

For the reasons described above, this Emergency AD requires a one-time functional test and modification (MOD 330A779820.00) of the pedal unit adjustment system.

Actions and Compliance

(f) Unless already done, do the following actions:

(1) Within the next 10 hours time-in-service after April 14, 2011 (the effective date of this AD), do a functional test of the pedal unit adjustment system following paragraph 2.B.1 of EUROCOPTER Emergency Alert Service Bulletin No. 67.18, dated August 3, 2009.

(2) If any non-conformity is found, before further flight, modify the pedal unit adjustment system following paragraphs 2.B.2, 2.B.3 or 2.B.4, and 2.B.5 of EUROCOPTER Emergency Alert Service Bulletin No. 67.18, dated August 3, 2009 (MOD 330A779820.00).

(3) If any non-conformity is not found, within 3 months after April 14, 2011 (the effective date of this AD), modify the pedal unit adjustment system following paragraphs 2.B.2, 2.B.3, and 2.B.5 of the EUROCOPTER Emergency Alert Service Bulletin No. 67.18, dated August 3, 2009 (MOD 330A779820.00).

(4) If half-bushings are not available when complying with paragraph (f)(2) or (f)(3) of this AD, flights are authorized without half-bushings for up to 12 months after April 14, 2011 (the effective date of this AD).

(5) After 3 months after April 14, 2011 (the effective date of this AD), do not install a pedal position adjustment system, unless it has been modified (MOD 330A779820.00) in accordance with the requirements of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Gary B. Roach, Aerospace Engineer, FAA, Rotorcraft Directorate, 2601 Meacham Blvd., Fort Worth, Texas 76137; telephone: (817) 222-5130; fax: (817) 222-5961. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) Emergency AD No.: 2009-0172-E, dated August 5, 2009; and, for related information.

Material Incorporated by Reference

(i) You must use EUROCOPTER Emergency Alert Service Bulletin No. 67.18, dated August 3, 2009, to do the actions required by this AD, unless the AD specifies otherwise.

(1) The Director of the Federal Register approved the incorporation by reference of this service information under 5 U.S.C. 552(a) and 1 CFR part 51.

(2) For service information identified in this AD, contact American Eurocopter Corporation, 2701 Forum Drive, Grand Prairie, TX 75053-4005; telephone: (800) 232-0323; fax: (972) 641-3710; or Internet: http://www.eurocopter.com.

(3) You may review copies of the referenced service information at the FAA, Office of the Regional Counsel, Southwest Region, 2601 Meacham Blvd., Room 663, Fort Worth, Texas 76137.

(4) You may also review copies of the service information incorporated by reference for this AD at the National Archives and Records Administration (NARA). For information on the availability of this material at NARA, call (202) 741-6030, or go to: http://www.archives.gov/federal_register/code_of_federal_regulations/ibr_locations.html.

Issued in Fort Worth, Texas, on January 10, 2011.
Kim Smith,
Manager, Rotorcraft Directorate, Aircraft Certificate Service.

[FR Doc. 2011-4466 Filed 3-9-11; 8:45 am]

BILLING CODE 4910-13-P